DEPARTMENT OF TRANSPORTATION

Federal Aviation Administration

[Summary Notice No. PE-2003-26]

Petitions for Exemption; Summary of Petitions Received

AGENCY: Federal Aviation Administration (FAA), DOT.

ACTION: Notice of petitions for exemption received.

SUMMARY: Pursuant to FAA's rulemaking provisions governing the application, processing, and disposition of petitions for exemption part 11 of Title 14, Code of Federal Regulations (14 CFR), this notice contains a summary of certain petitions seeking relief from specified requirements of 14 CFR, dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before May 27, 2003.

ADDRESSES: Send comments on any petition to the Docket Management System, U.S. Department of Transportation, Room Plaza 401, 400 Seventh Street, SW., Washington, DC 20590-0001. You must identify the docket number FAA-2000-XXXX at the beginning of your comments. If you wish to receive confirmation that FAA received your comments, include a self-addressed, stamped postcard.

You may also submit comments through the Internet to http://dms.dot.gov. You may review the public docket containing the petition, any comments received, and any final disposition in person in the Dockets Office between 9 a.m. and 5 p.m., Monday through Friday, except Federal holidays. The Dockets Office (telephone 1-800-647-5527) is on the plaza level of the NASSIF Building at the Department of Transportation at the above address. Also, you may review public dockets on the Internet at http://dms.dot.gov.

FOR FURTHER INFORMATION CONTACT: Denise Emrick (202) 267-5174, Office of Rulemaking (ARM-1), Federal Aviation Administration, 800 Independence Avenue, SW., Washington, DC 20591.

This notice is published pursuant to 14 CFR 11.85 and 11.91.

Issued in Washington, DC, on May 6, 2003.
Donald P. Byrne,
Assistant Chief Counsel for Regulations.

Petitions for Exemption

Docket No.: FAA-2003-14909.

Petitioner: America West Airlines.

Section of 14 CFR Affected: 14 CFR 121.356.

Description of Relief Sought: To permit America West Airlines to accept and operate two Airbus A320 airplanes, that have Traffic Alert and Collision Avoidance System II equipment installed after April 30, 2003, that does not meet Technical Standard Order C-119b version 7.0.

Docket No.: FAA-2002-14227.

Petitioner: Kenmore Air Harbor, Inc.

Section of 14 CFR Affected: 14 CFR 135.154(b)(2).

Description of Relief Sought: To permit Kenmore Air Harbor, Inc. to operate nine single-engine, turbine-powered seaplanes after March 29, 2005, without being equipped with an approved terrain awareness and warning system that meets the requirements for class B equipment in Technical Standard Order C151, both inside and out of the United States.

Docket No.: FAA-2003-14366.

Petitioner: Baby B'Air.

Section of 14 CFR Affected: 14 CFR 121.311(c)(1), 91.107(a)(3)(iii)(B) and (a)(3)(iii)(C)(3); 121.311(b)(1) and (b)(2)(ii).

Description of Relief Sought: To allow people to use the Baby B'Air flightvest (a vest-type, lap-held child restraint system) that is not manufactured to U.S. standards and does not conform to all applicable Federal motor vehicle safety standards, is not certificated for use in motor vehicles and aircraft; and has not been accepted by the FAA during all phases of flight, including critical phases of flight.

[FR Doc. 03-11636 Filed 5-8-03; 8:45 am]

BILLING CODE 4910-13-P